COMMISSION ON CIVIL RIGHTS

Notice of Public Meeting of the North Carolina (State) Advisory Committee (SAC) for a Meeting To Discuss Potential Project Topics

AGENCY: U.S. Commission on Civil Rights.

ACTION: Notice of meeting.

SUMMARY: Notice is hereby given, pursuant to the provisions of the rules and regulations of the U.S. Commission on Civil Rights (Commission) and the Federal Advisory Committee Act that the North Carolina (State) Advisory Committee will hold a meeting on Friday, January 29, 2016, for the purpose of continuing discussion of potential project topics.

Members of the public can listen to the discussion. This meeting is available to the public through the following toll-free call-in number: 888-576-4387, conference ID: 644751. Any interested member of the public may call this number and listen to the meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also invited and welcomed to make statements at the end of the conference call. In addition, members of the public are entitled to submit written comments; the comments must be received in the regional office by February 29, 2016. Written comments may be mailed to the Southern Regional Office, U.S. Commission on Civil Rights, 61 Forsyth Street, Suite 16T126, Atlanta, GA 30303. They may also be faxed to the Commission at (404) 562-7005, or emailed to Regional Director, Jeffrey Hinton at jhinton@usccr.gov. Persons who desire additional information may contact the Southern Regional Office at (404) 562-7000. Records and documents discussed during the meeting will be available for public viewing prior to and after the meeting at: http://facadatabase.gov/committee/meetings.aspx?cid=266 and clicking on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

Welcome and Introductions

Matty Lazo-Chadderton, Chair

North Carolina Advisory Committee discussion of potential project topics (Coal Ash)

Matty Lazo- Chadderton, Chair

Open Comment

Staff/Advisory Committee

Public Participation

Adjournment

DATES: The meeting will be held on Friday, January 29, 2016, 12:00 p.m. EST.

Public Call Information

Toll-free call-in number: 888-576-4387, conference ID: 644751.

FOR FURTHER INFORMATION CONTACT: Jeff Hinton, DFO, at 404-562-7006 or jhinton@usccr.gov.

Dated: January 8, 2016.
David Mussatt,
Chief, Regional Programs Unit.

[FR Doc. 2016-00584 Filed 1-13-16; 8:45 am]

BILLING CODE 6335-01-P